ENVIRONMENTAL PROTECTION AGENCY

40 CFR Part 52

[EPA-R05-OAR-2010-0034; FRL-9309-6]

Approval and Promulgation of Air Quality Implementation Plans; Illinois; Missouri; Saint Louis Nonattainment Area; Determination of Attainment of the 1997 Annual Fine Particle Standard

AGENCY: Environmental Protection Agency (EPA).

ACTION: Final rule.

SUMMARY: The Environmental Protection Agency (EPA) is taking final action determining that the Saint Louis fine particle (PM2.5) nonattainment area in Illinois and Missouri has attained the 1997 annual PM2.5 National Ambient Air Quality Standard (NAAQS). This final determination of attainment is based upon quality assured, quality controlled, and certified ambient air monitoring data for the 2007-2009 monitoring period which show that the Saint Louis area has monitored attainment of the 1997 annual PM2.5 NAAQS, as well as quality assured data for 2010 that are in EPA's Air Quality System (AQS), but not yet certified, that show that the Saint Louis area has continued to monitor attainment of the 1997 annual PM2.5 NAAQS. Pursuant to EPA's PM2.5 implementation regulations, this final determination suspends the states' obligation to submit a number of plans for this area including: An attainment demonstration, associated reasonably available control measures (RACM), including reasonably available control technology (RACT), a reasonable further progress plan, contingency measures, and other planning State Implementation Plan (SIP) revisions related to attainment of the 1997 annual PM2.5 NAAQS for so long as the area continues to attain the 1997 annual PM2.5 NAAQS.

EPA's determination that this area has attained the 1997 annual PM2.5 NAAQS is not equivalent to redesignating the area to attainment. The designation of the area will remain nonattainment for the 1997 annual PM2.5 NAAQS until such time as EPA determines that this area meets the Clean Air Act (CAA) requirements for redesignation to attainment.

DATES: This final rule is effective on May 23, 2011.

ADDRESSES: EPA has established a docket for this action under Docket ID No. EPA-R05-OAR-2010-0034. All documents in the docket are listed on the www.regulations.gov Web site. Although listed in the index, some information is not publicly available, i.e., Confidential Business Information (CBI) or other information whose disclosure is restricted by statute. Certain other material, such as copyrighted material, is not placed on the Internet and will be publicly available only in hard copy form. Publicly available docket materials are available either electronically through www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Matt Rau, Environmental Engineer, at (312) 886-6524 before visiting the Region 5 office.

FOR FURTHER INFORMATION CONTACT: Matt Rau, Environmental Engineer, Control Strategies Section, Air Programs Branch (AR-18J), Environmental Protection Agency, Region 5, 77 West Jackson Boulevard, Chicago, Illinois 60604, (312) 886-6524, rau.matthew@epa.gov. You may also contact Michael Jay, Air Planning and Development Branch, Environmental Protection Agency, Region 7, 901 North Fifth Street, Kansas City, Kansas 66101, (913) 551-7460, jay.michael@epa.gov.

SUPPLEMENTARY INFORMATION: Throughout this document whenever “we,” “us,” or “our” is used, we mean EPA. This supplementary information section is arranged as follows:

I. What action is EPA taking?

II. What is the background of this action?

III. What is EPA's analysis of the relevant air quality data?

IV. What are EPA's responses to public comments?

V. What are the effects of this action?

VI. When is this rule effective?

VII. Statutory and Executive Order Reviews

I. What action is EPA taking?

EPA is making a final determination that the Saint Louis PM2.5 nonattainment area, in the States of Missouri and Illinois, has attained the 1997 annual PM2.5 NAAQS. EPA published its proposed determination for the Saint Louis PM2.5 nonattainment area on March 7, 2011 (76 FR 12302). EPA received one set of comments on its proposal from the Interdisciplinary Environmental Clinic, Washington University School of Law on behalf of the American Bottom Conservancy. These comments and EPA's responses are found in Section IV of this notice. As set forth in the proposal, EPA's determination is based upon quality assured, quality controlled, and certified ambient air monitoring data from the 2007-2009 monitoring period and additional quality assured, quality controlled data in AQS for 2010 which show that the Saint Louis area has monitored attainment of the 1997 annual PM2.5 NAAQS.

II. What is the background of this action?

The proposed rule (76 FR 12302, March 7, 2011) sets forth the background of this action. The proposed rule describes the pertinent PM2.5 NAAQS, the designation of the Saint Louis area as nonattainment for the 1997 annual PM2.5 NAAQS, and the effect of determining attainment of this standard on the suspension of attainment-related planning requirements. Details are provided in the notice of proposed rulemaking.

III. What is EPA's analysis of the relevant air quality data?

In its proposal (76 FR 12302, March 7, 2011), EPA evaluated data recorded in the AQS database for the Saint Louis PM2.5 nonattainment area from 2007 to 2009. Eight monitoring sites in the nonattainment area presented complete data. The highest design value at these sites was 14.1 µg/m³ at monitor 17-119-1007 in Madison County, Illinois. EPA concluded that the Saint Louis area has attained the 1997 annual PM2.5 NAAQS based on its evaluation of quality assured and certified data from the area monitoring sites with complete data for the 2007-2009 monitoring period. Supplemental, supporting air quality data were also considered, as discussed in the proposed rule.

The historical certified data recorded at the monitors that were discontinued during the 2007-2009 monitoring period and recent certified data recorded at monitors that started operation during the period provide additional support for EPA's determination that the Saint Louis area has attained the 1997 annual PM2.5 NAAQS.

EPA also considered additional monitoring data for 2010 that have been submitted by the states and are in AQS, although not yet certified. The 2010 data indicate that the Saint Louis area continues in attainment for the 2008-2010 monitoring period. EPA believes that these data show that the area continues to meet the 1997 annual PM2.5 NAAQS.

IV. What are EPA's responses to public comments?

On March 7, 2011, EPA proposed to determine that the Saint Louis PM2.5 nonattainment area has attained the 1997 annual PM2.5 NAAQS (76 FR 12302). EPA received one comment letter on the proposed approval, from the Interdisciplinary Environmental Clinic at Washington University Law School, on behalf of the American Bottom Conservancy (ABC). Below we set forth a summary of ABC's comments and EPA's responses.

Comment: The commenter contends that U.S. Steel-Granite City Works (USS-GCW) is a significant source of PM2.5 emissions in the Saint Louis area, and that the plant's operations raise environmental justice concerns. The commenter states that a large number of low income and minority residents near USS-GCW are affected by the air quality resulting from the plant's substantial PM2.5 emissions.

Response: As stated in our proposal, the 2007-2009 design value for the monitor closest to the USS-GCW plant, monitor 17-119-1007 in Granite City, is 14.1 µg/m³, which meets the NAAQS. We further found that 2010 monitoring data indicate that the 2008-2010 design values from monitor 17-119-1007 and also from another Granite City monitor close to the plant, 17-119-0024, that began operating in July 2007, show attainment of the NAAQS. In addition to these monitors in Granite City, air quality is measured at more monitors in Madison County (Alton and Wood River) as well as by monitors in the adjacent Saint Clair County and elsewhere throughout the area. See Section III of the proposed rule for more detail, at 76 FR 12303. These monitors measure PM2.5 concentrations in the ambient air—the air people breathe. The annual PM2.5 standard was set to protect the public from long-term fine particulate exposure. EPA's obligation, in this rulemaking, is solely to determine whether quality assured monitored data for the most recent three-year period show that the Saint Louis area is meeting the annual PM2.5 NAAQS. Monitored attainment of the standard is the only basis of a determination of attainment or nonattainment, and it is the only relevant issue. EPA's role in this rulemaking is limited to making the determination in accordance with the requirements of the CAA and EPA regulations. See 40 CFR 50.13 and 40 CFR 50 Appendix N. Should the plant's operations or any other source of emissions at any time in the future result in monitored nonattainment of the standard, in accordance with the statute and EPA regulations, then EPA will take action, through notice and comment rulemaking, to withdraw this determination. Thus, people who live or work in Granite City or surrounding towns will be protected if the air quality falls back into nonattainment.

EPA reviewed air quality data throughout the Saint Louis area, including environmental justice areas and other areas alike, and EPA is determining that the Saint Louis area is attaining the standard only because we find that all portions of the area are meeting the standard. This means that the health of citizens who live or work in environmental justice communities is protected just as the health of citizens who live or work elsewhere in the area is protected.

Comment: “The highest ambient PM2.5 air monitoring values in [the Saint Louis area] consistently have been associated with monitor 17-119-1007 in Madison County, Illinois, just a few blocks from USS-GCW. The facility is a significant source of PM2.5 and has been identified [by Illinois] as a contributor to PM2.5 nonattainment” at the monitor.

Response: EPA agrees that Madison County, Illinois monitors have generally recorded the highest ambient PM2.5 concentrations in the Saint Louis area. In addition to monitor 17-119-1007, area high values have been recorded at monitor 17-119-0024. Both monitors are in Granite City near USS-GCW. Nevertheless, the two most recent three-year periods of data (2007-2009 and 2008-2010) show that all area monitors, including monitors 17-119-0024 and 17-119-1007 in Granite City, are meeting the annual PM2.5 standard. For the monitor of greatest concern to the commenter, EPA calculated the 2008-2010 design value as 13.8 µg/m³, which is the area's highest design value. This supports EPA's determination that the Saint Louis area continues to meet the annual PM2.5 NAAQS.

Comment: The commenter argues that the proposed determination of attainment is based on air quality data that are unrepresentative of air quality during “normal” operation of the USS-GCW facility. The commenter asserts that the period of USS-GCW's shutdown from the end of 2008 through a substantial portion of 2009 is associated with considerably lower than normal ambient PM2.5 values, based on data from monitor 17-119-1007. Thus, the commenter claims that the apparent finding of attainment is “illusory” because it is dependent on air data gathered during the plant shutdown that the commenter believes are not indicative of USS-GCW's true impact on the air quality and risks to public health in the community. ABC asks that EPA reconsider its decision to make a determination of attainment for the Saint Louis area for the 1997 annual PM2.5 NAAQS based on the unrepresentative period from 2007-2009.

ABC also noted that steel production at USS-GCW remained relatively constant between 2004 and 2008 with annual production of 2,294,000 to 2,545,000 tons. The commenter states that in 2009, steel production dropped sharply to 906,000 tons because the plant was closed for a substantial portion of the year. USS-GCW steel production then increased significantly from 2009 to 2010 with the facility producing 2,539,000 tons of steel in 2010. The commenter asserts that as a result, ambient air quality PM2.5 concentrations near the USS-GCW facility increased in 2010 as well.

Response: First, EPA notes that the commenter concedes that air quality data for 2007-2009 for the Saint Louis area meet the 1997 annual PM2.5 NAAQS. The commenter argues, however, that these data are not “representative” of air quality in the area. While EPA agrees that the 2009 air quality values monitored in the Saint Louis area generally were lower than the 2007, 2008, and 2010 values recorded at the same monitors, EPA disagrees with the commenter's position that this should prevent EPA from determining that the Saint Louis area is meeting the 1997 annual PM2.5 standard. A determination of attainment under 40 CFR 50 Appendix N is based on an analysis of the three most recent years of complete, quality assured monitoring data. These data by definition are representative of air quality during the requisite period. And here, EPA determined that both 2007 to 2009 data and 2008 to 2010 data indicate that the area is attaining the standard.

A determination of attainment centers on the monitored air quality during a specific time period. The underlying causes of the monitored values are not relevant to the determination. Maintenance of the standard in the future is also not relevant to an assessment of current attainment. The ability of an area to maintain attainment of the NAAQS is reserved for consideration as a required element for EPA approval of an area's redesignation request, and is a question that is separate from and independent of a determination of attainment. See CAA section 107(d)(3)(E), listing separately among the requirements for redesignation a determination of attainment and an approved maintenance plan. Even after EPA finalizes a determination of attainment for the Saint Louis area, the area remains designated nonattainment, and the determination is subject to revision if in the future EPA determines that the air quality in the area once again fails to meet the standard.

We note that the monitored ambient PM2.5 levels rose from 2009 to 2010, but they did not reach the levels above the standard that had been recorded a few years earlier. The Granite City monitor 17-119-1007 recorded an 11.3 µg/m³ annual PM2.5 average in 2009 and the data in EPA's AQS for 2010 show an annual average of 14.3 µg/m³. This 2010 value is below the standard and less than the annual averages of 15.1 µg/m³ in 2007 and 15.7 µg/m³ in 2008 at monitor 17-119-1007, when the plant was also operating at a level of production that the commenter regards as “normal.” For a determination of attainment of the annual PM2.5 NAAQS, the design value is calculated using the arithmetic mean of three consecutive annual averages, such as 2007-2009 or 2008-2010. However, for the sole purpose of showing what the air quality might have been without the impact of the plant shutdown, EPA calculated the mean using the annual averages from the three most recent years when USS-GCW had “normal” steel production, i.e., 2007, 2008, and 2010. The mean derived from this calculation, 15.0 µg/m³, meets the level of the 1997 PM2.5 annual standard. While this calculated value does not obey the requirement to use consecutive years and thus is not a design value that can be compared to the NAAQS for regulatory purposes, it does provide reassurance that data from recent years during which the plant operated at higher levels of production do not undermine EPA's determination, using the appropriate design value, that the Saint Louis area attains the annual PM2.5 NAAQS.

EPA also notes the design values history in the Saint Louis area. The 2008-2010 design values appear likely to be similar to or even a little lower than the 2007-2009 design values. Most significantly, despite any increase in 2010 values from the 2009 values, the air quality meets the 1997 annual PM2.5 standard. The historic design values at monitor 17-119-1007, which is closest to USS-GCW, are shown on Table 1. The 2008-2010 design value in Table 1 was calculated using quality assured but not yet certified 2010 data.

Table 1—Annual PM2.5 Design Values at 17-119-1007
Years | 2001-2003 | 2002-2004 | 2003-2005 | 2004-2006 | 2005-2007 | 2006-2008 | 2007-2009 | 2008-2010
Value | 17.5 µg/m³ | 16.9 | 17.0 | 16.6 | 16.5 | 15.7 | 14.1 | * 13.8
* Value calculated with quality assured, but uncertified 2010 data.

Table 1 shows the design values have decreased from values above 16 µg/m³ to 15.7 µg/m³ in 2006-2008. That is, these data suggest a downward trend in PM2.5 concentrations even in years with similar levels of steel production at USS-GCW, suggesting that air quality has improved as a result of long-term emission reductions from sources throughout the Saint Louis area and elsewhere. See also EPA's response to the comment below. Nevertheless, as we noted before, a determination of attainment is a straightforward assessment of air quality during a particular time period. EPA is not required, when making a determination of attainment, to account for the causes of attainment or to show that attainment is due to permanent and enforceable emissions reductions. That showing, like maintenance, is a specific requirement for redesignation of an area to attainment, and independent of a determination of attainment. EPA will consider this requirement for redesignation at such time as the states submit any requests for redesignation. It is not, however, a relevant requirement in this rulemaking. Compare section 107(d)(3)(E) (i) and (iii).

Comment: ABC commented that, “Not only is USS-GCW a significant source of PM2.5 in the [Saint Louis] area, but the facility has a history of air pollution noncompliance. Regardless of EPA's determination of attainment, ABC urges “EPA and IEPA to be vigilant about enforcing CAA violations at USS-GCW to reduce the threats of air pollution to the surrounding community.” ABC noted some enforcement actions taken at USS-GCW. ABC concluded by asking EPA “to use all legal authorities to protect the community from excessive PM2.5 emissions.”

Response: A determination of attainment is simply an evaluation of the ambient air quality data that are compared to the NAAQS. For the Saint Louis area, EPA has determined that the most recent air quality data establish that the area meets the 1997 PM2.5 NAAQS. The evaluation is not required to consider the emission limits or compliance history of sources. The determination of attainment does not express or imply any EPA position on the compliance history of USS-GCW. EPA is also working with Illinois and Missouri to seek additional emission reductions to continue to improve the air quality in the Saint Louis area. For example, important steps toward further control of USS-GCW are provided in the Memorandum of Understanding (MOU) that U.S. Steel and Illinois signed on June 30 and July 1, 2010, respectively. This agreement is expected to provide significant reductions of PM2.5 emissions from USS-GCW by the start of 2012 and again in spring 2013. Although some MOU conditions to aid compliance are already in place, particulate matter emission limits on several units are effective beginning January 1, 2012, and on additional units starting March 31, 2013.

EPA stated in the proposed rule and has reiterated in this final rule that this determination of attainment is not a redesignation. The Saint Louis area remains designated nonattainment. For the area to be redesignated to attainment, Illinois and Missouri must show that the improvement in air quality is due to permanent and enforceable emissions reductions, and EPA must fully approve a maintenance plan meeting the requirements of section 175A of the CAA. Thus, in any PM2.5 redesignation request that Illinois or Missouri submits for this area, the state would be required to demonstrate, among other things, that controls at USS-GCW and other sources in the area and upwind are sufficient to assure that the area will continue to attain the standard for at least 10 years beyond the date of the redesignation.

V. What are the effects of this action?

This determination suspends, under the provisions of the PM2.5 Implementation Rule (40 CFR 51.1004(c)), the requirements for the Saint Louis PM2.5 nonattainment area and the States of Illinois and Missouri to submit attainment demonstrations, RACM (including RACT), reasonable further progress plans, contingency measures, and other planning SIPs revisions related to attainment of the 1997 annual PM2.5 NAAQS provided that the area continues to attain the 1997 annual PM2.5 NAAQS.

As discussed further, final approval of the determination of attainment for the Saint Louis PM2.5 nonattainment area: (1) Suspends the obligation for Missouri and Illinois to submit the requirements listed above; (2) continues such suspension until such time, if any, that EPA subsequently determines that any monitor in the area has violated the 1997 annual PM2.5 NAAQS; and, (3) is separate from, and will not influence or otherwise affect, any future designation determination or requirements for the Saint Louis PM2.5 nonattainment area based on the 2006 24-hour PM2.5 NAAQS or future PM2.5 NAAQ revision. Final approval also suspends the sanction and Federal Implementation Plan (FIP) timetables for Illinois that were started on November 27, 2009 (EPA found in a November 27, 2009 Final Rule (74 FR 62251), that Illinois failed to submit a plan with the elements listed in the previous paragraph for the Saint Louis PM2.5 nonattainment area). If, in the future, EPA determines, after notice-and-comment rulemaking in the Federal Register, that the area has violated the 1997 annual PM2.5 NAAQS, the basis for the suspension of the specific requirements, set forth above, would no longer exist, and the States of Missouri and Illinois would thereafter have to address the pertinent requirements. The suspension of the sanction and FIP timetables would also end and those timetables would begin again at the point at which they were suspended.

This rulemaking action is limited to a determination that the air quality data show that the Saint Louis PM2.5 nonattainment area has monitored attainment of the 1997 annual PM2.5 NAAQS, and it is not equivalent to the redesignation of the Saint Louis PM2.5 nonattainment area to attainment of the 1997 annual PM2.5 NAAQS. It is not a redesignation to attainment under section 107(d)(3) of the CAA because the EPA has not yet approved a maintenance plan for the area as required under CAA section 175A, nor a determination that the Saint Louis PM2.5 nonattainment area has met the other requirements for redesignation under the CAA. The designation status of the Missouri and Illinois portions of the Saint Louis PM2.5 nonattainment area will remain nonattainment for the 1997 annual PM2.5 NAAQS until such time as the EPA takes final rulemaking action to determine that such portions meet the CAA requirements for redesignation to attainment.

VI. When is this rule effective?

EPA finds that there is good cause for this determination of attainment to become effective on the date of publication of this action in the Federal Register, because a delayed effective date is unnecessary due to the nature of the action. The expedited effective date for this action is authorized under both 5 U.S.C. 553(d)(1), which provides that rule actions may become effective less than 30 days after publication if the rule “grants or recognizes an exemption or relieves a restriction,” and 5 U.S.C. 553(d)(3), which allows an effective date less than 30 days after publication “as otherwise provided by the agency for good cause found and published with the rule.” As noted above, this determination of attainment will result in a suspension of the requirements for the Saint Louis area to submit an attainment demonstration, a RFP plan, section 172(c)(9) contingency measures, and any other planning SIPs related to attainment of the 1997 annual PM2.5 NAAQS for so long as the area continues to attain the PM2.5 NAAQS. The suspension of these requirements is sufficient reason to allow an expedited effective date of this rule under 5 U.S.C. 553(d)(1). This determination of attainment will also suspend the sanction and FIP timetables for Illinois on the effective date of this rule. In addition, the suspension of the obligations of Illinois and Missouri to make submissions for these requirements provides good cause to make this rule effective on the date of publication of this action in the Federal Register, pursuant to 5 U.S.C. 553(d)(3). The purpose of the 30-day waiting period prescribed in 5 U.S.C. 553(d) is to give affected parties a reasonable time to adjust their behavior and prepare before the final rule takes effect. Where, as here, the final rule suspends requirements rather than imposing obligations, affected parties, such as the Saint Louis area, do not need time to adjust and prepare before the rule takes effect.

VII. Statutory and Executive Order Reviews

This action makes a determination of attainment based on air quality, and results in the suspension of certain Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by July 22, 2011. Filing a petition for reconsideration by the Administrator of this Final Rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Particulate matter, Reporting and recordkeeping requirements.

Dated: May 10, 2011.
Susan Hedman,
Regional Administrator, Region 5.
Dated: May 16, 2011.
Karl Brooks,
Regional Administrator, Region 7.

40 CFR part 52 is amended as follows:

PART 52—[AMENDED]

1. The authority citation for part 52 continues to read as follows:

Authority: 42 U.S.C. 7401 et seq.

Subpart O—Illinois

2. Section 52.725 is amended by adding paragraph (k) to read as follows:

§ 52.725 Control strategy: Particulates.

* * * * *

(k) Determination of Attainment. EPA has determined, as of May 23, 2011, that the Saint Louis, Illinois-Missouri PM2.5 nonattainment area has attained the 1997 PM2.5 NAAQS. This determination, in accordance with 40 CFR 51.1004(c), suspends the requirements for this area to submit an attainment demonstration, associated reasonably available control measures, reasonable further progress, contingency measures, and other plan elements related to attainment of the standards for as long as the area continues to meet the 1997 PM2.5 NAAQS.

Subpart AA—Missouri

3. Subpart AA is amended by adding § 52.1341 to read as follows:

§ 52.1341 Control strategy: Particulate Matter.

Determination of Attainment. EPA has determined, as of May 23, 2011, that the Saint Louis, Illinois-Missouri PM2.5 nonattainment area has attained the 1997 PM2.5 NAAQS. This determination, in accordance with 40 CFR 51.1004(c), suspends the requirements for this area to submit an attainment demonstration, associated reasonably available control measures, reasonable further progress, contingency measures, and other plan elements related to attainment of the standards for as long as the area continues to meet the 1997 PM2.5 NAAQS.

[FR Doc. 2011-12480 Filed 5-20-11; 8:45 am]

BILLING CODE 6560-50-P